DEPARTMENT OF HOMELAND SECURITY

Federal Emergency Management Agency

[Docket ID: FEMA-2011-0027; OMB No. 1660-0107]

Agency Information Collection Activities: Proposed Collection; Comment Request, Title: Public Assistance Customer Satisfaction Survey

AGENCY: Federal Emergency Management Agency, DHS.

ACTION: Notice.

SUMMARY: The Federal Emergency Management Agency, as part of its continuing effort to reduce paperwork and respondent burden, invites the general public and other Federal agencies to take this opportunity to comment on a proposed revision of a currently approved information collection. In accordance with the Paperwork Reduction Act of 1995, this notice seeks comments concerning the survey forms used to measure customer satisfaction against standards for performance and customer service, and generally gauge and make improvements to disaster services that increase customer satisfaction.

DATES: Comments must be submitted on or before December 16, 2011.

ADDRESSES: To avoid duplicate submissions to the docket, please use only one of the following means to submit comments:

(1) Online. Submit comments at http://www.regulations.gov under Docket ID FEMA- 2011-0027. Follow the instructions for submitting comments.

(2) Mail. Submit written comments to Docket Manager, Office of Chief Counsel, DHS/FEMA, 500 C Street, SW., Room 835, Washington, DC 20472-3100.

(3) Facsimile. Submit comments to (703) 483-2999.

(4) E-mail. Submit comments to FEMA-POLICY@dhs.gov. Include Docket ID FEMA-2011-0027 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of http://www.regulations.gov.

FOR FURTHER INFORMATION CONTACT: Kathy Canaday, Customer Satisfaction Analyst, FEMA, 940 891-8856 or Maggie Billing, Program Analyst, FEMA, 940 891-8709 for additional information. You may contact the Records Management Division for copies of the proposed collection of information at facsimile number (202) 646-3347 or e-mail address: FEMA-Information-Collections-Management@dhs.gov.

SUPPLEMENTARY INFORMATION: Executive Order (EO) 12862 requires that all Federal agencies survey customers to determine the kind and quality of services they want and their level of satisfaction with existing services. The Government Performance and Results Act (GPRA) requires agencies to set missions and goals, and measure performance against them. FEMA will fulfill these requirements by collecting customer satisfaction information through administration of surveys of the Recovery Directorate (RD) external customers who receive Public Assistance grants so that communities can quickly respond to and recover from major disasters or emergencies declared by the President. The measurement results will come from the FEMA Public Assistance Customer Satisfaction Survey.

Collection of Information

Title: Public Assistance Customer Satisfaction Survey.

Type of Information Collection: Revision of a currently approved information collection.

OMB Number: 1660-0107.

Form Titles and Numbers: FEMA Form 519-0-1 T, Public Assistance Customer Satisfaction Survey (Telephone); FEMA Form 519-0-1 INT, Public Assistance Customer Satisfaction Survey (Web); FEMA Form 519-0-1, Public Assistance Customer Satisfaction Survey (Fill-able).

Abstract: This collection of information enables the Agency to garner customer and stakeholder feedback in an efficient, timely manner, in accordance with our commitment to improving service delivery. The information collected from customers and stakeholders will help ensure that users have an effective, efficient, and satisfying experience with the Agency's programs. This feedback will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management.

Affected Public: Not-for-profit institutions, State, Local, and Tribal Governments.

Estimated Total Annual Burden Hours: 3,695 hours.

Estimated Annualized Burden Hours
Type of respondent | Form name/form number | Number of respondents | Number of responses per respondent | Avg. burden per response 20 minutes (or .333 hours) | Total annual burden (in hours)
| (Phone) |  |  |  |
Not-for-profit institutions | Public Assistance Customer Satisfaction Survey/FEMA Form 519-0-1T | 630 | 1 | 15 | 158
State, Local or Tribal Government | Public Assistance Customer Satisfaction Survey/FEMA Form 519-0-1T | 5,670 | 1 | 15 | 1,418
Sub-Total | (Phone) | 6,300 |  |  | 1,575
| (Fillable Form) |  |  |  |
Not-for-profit institutions | Public Assistance Customer Satisfaction Survey/FEMA Form 519-0-1 | 157 | 1 | 20 | 52
State, Local or Tribal Government | Public Assistance Customer Satisfaction Survey/FEMA Form 519-0-1 | 1,418 | 1 | 20 | 473
Sub-Total | (Fill able Form) | 1,575 |  |  | 525
| (Web-based) |  |  |  |
Not-for-profit institutions | Public Assistance Customer Satisfaction Survey/FEMA Form 519-0-1INT | 157 | 1 | 20 | 52
State, Local or Tribal Government | Public Assistance Customer Satisfaction Survey/FEMA Form 519-0-1INT | 1,418 | 1 | 20 | 473
Sub-Total | (Web-based) | 1,575 |  |  | 525
| (Fillable Form/Fax) |  |  |  |
Not-for-profit institutions | Public Assistance Customer Satisfaction Survey/FEMA Form 519-0-1 | 52 | 1 | 20 | 17
State, Local or Tribal Government | Public Assistance Customer Satisfaction Survey/FEMA Form 519-0-1 | 473 | 1 | 20 | 158
Sub-Total | (Fax) | 525 |  |  | 175
| (Fillable Form/Mail/Paper) |  |  |  |
Not-for-profit institutions | Public Assistance Customer Satisfaction Survey/FEMA Form 519-0-1 | 52 | 1 | 20 | 17
State, Local or Tribal Government | Public Assistance Customer Satisfaction Survey/FEMA Form 519-0-1 | 473 | 1 | 20 | 158
Sub-Total | (Mail/Paper) | 525 |  |  | 175
Total Sub-Total | (Phone, Fillable, Web-Based) | 10,500 |  |  | 2,975
| (Focus Groups) |  |  |  |
Not-for-profit institutions | Focus Groups based on 12 participants for each Session and 1 Session for each of 5 Regions Per Year | 60 | 1 | 3 | 180
State, Local or Tribal Government | Focus Groups based on 12 participants for each Session and 3 Sessions for each of 5 Regions Per Year | 180 | 1 | 3 | 540
Sub-Total | (Focus Groups) | 240 |  |  | 720
Total |  | 10,740 |  |  | 3,695

Estimated Cost: The estimated annual cost to respondents for the hour burden is $131,394.76. There are no annual costs to respondents operations and maintenance costs for technical services. There are no annual start-up or capital costs. The total annual non-labor cost is $7,344. The cost to the Federal government is $828,407.59.

Comments

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Gary L. Anderson,
Acting Chief Administrative Officer, Mission Support Bureau, Federal Emergency Management Agency, Department of Homeland Security.

[FR Doc. 2011-26710 Filed 10-14-11; 8:45 am]

BILLING CODE 9111-23-P